DEPARTMENT OF THE INTERIOR

Office of the Secretary

[DOI-2025-0104; 25XD4523WS/DS67010000/DWSN00000.000000/DP67012]

Privacy Act of 1974; System of Records

AGENCY: Office of the Secretary, Department of the Interior.

ACTION: Notice of modified systems of records.

SUMMARY: Pursuant to the provisions of the Privacy Act of 1974, as amended, the Department of the Interior (DOI) is issuing a public notice of its intent to modify certain system of records notices to add a new routine use. This new routine use authorizes the disclosure of records to the U.S. Department of the Treasury for purposes of reviewing payment and award eligibility through the Do Not Pay Working System to identify, prevent, or recoup improper payments, consistent with the Payment Integrity Information Act of 2019 (31 U.S.C. 3351 et seq.), the Privacy Act of 1974 (5 U.S.C. 552a(b)(3)), Executive Order 14249, Protecting America's Bank Account Against Fraud, Waste, and Abuse, and OMB Memorandum M-25-32, Preventing Improper Payments and Protecting Privacy Through Do Not Pay.

DATES: This notice will be effective upon publication. The new routine use will be effective April 6, 2026. Submit comments on or before April 6, 2026. DOI will not disclose any records pursuant to this new routine use until after the 30-day comment period has ended and all comments have been reviewed and addressed.

ADDRESSES: You may send comments identified by docket number DOI-2025-0203 by any of the following methods:

• Federal eRulemaking Portal: https://www.regulations.gov. Follow the instructions for sending comments.

• Email: DOI_Privacy@ios.doi.gov. Include docket number DOI-2025-0203 in the subject line of the message.

• U.S. Mail or Hand Delivery: Walter Clay, Departmental Privacy Officer (Acting), U.S. Department of the Interior, 1849 C Street NW, Room 7112, Washington, DC 20240.

Instructions: All submissions received must include the agency name and docket number DOI-2025-0104. All comments received will be posted without change to https://www.regulations.gov, including any personal information provided.

Docket: For access to the docket, visit https://www.regulations.gov.

FOR FURTHER INFORMATION CONTACT: Walter Clay, Departmental Privacy Officer (Acting), U.S. Department of the Interior, 1849 C Street NW, Room 7112, Washington, DC 20240, DOI_Privacy@ios.doi.gov or (202) 208-1605.

SUPPLEMENTARY INFORMATION:

I. Background

On March 25, 2025, the President signed Executive Order 14249, Protecting America's Bank Account Against Fraud, Waste, and Abuse, which establishes a government-wide policy to safeguard against financial fraud and improper payments, enhance transparency and accountability, improve efficiency, reduce costs, and strengthen the security of Federal payments. Section 3(d) of the Executive Order directs Federal agencies to review and modify, as applicable, relevant Privacy Act system of records notices to include a routine use “that allows disclosure of records to the Department of the Treasury for the purposes of identifying, preventing, or recouping fraud and improper payments, to the extent permissible by law.”

The Payment Integrity Information Act of 2019 (31 U.S.C. 3351 et seq.) requires each executive agency to review available databases with relevant information on eligibility and to use the Treasury's Do Not Pay Working System to prevent improper payments. OMB Memorandum M-25-32 provides standardized guidance to implement these requirements while ensuring compliance with the Privacy Act of 1974 (5 U.S.C. 552a) and OMB Circular A-108.

The Department of the Interior administers programs involving trust funds, financial assistance, payroll, grants, procurement, and other financial activities. The systems of records identified below were reviewed under M-25-32 Appendix I, and DOI determined that these systems maintain information relevant and necessary for verifying payment or award eligibility through the Do Not Pay Working System. DOI is adding this new routine use to the systems listed below, pursuant to Executive Order 14249, to support Treasury's role in combating fraud and ensuring the integrity of Federal payments.

This action is consistent with applicable legal authorities and safeguards to ensure that any disclosures to Treasury or its agents are limited to the extent necessary and conducted in accordance with the Privacy Act.

II. Systems Impacted by This Modification

1. INTERIOR/BIA-04, Trust Asset and Accounting Management System (TAAMS), 79 FR 68292 (November 14, 2014); modification published 86 FR 50156 (September 7, 2021).

2. INTERIOR/BIA-7, Tribal Enrollment Reporting and Payment System, 76 FR 59733 (September 27, 2011); modification published 86 FR 50156 (September 7, 2021).

3. INTERIOR/BIA-8, Financial Assistance and Social Services—Case Management System, 76 FR 56787 (September 14, 2011); modification published 86 FR 50156 (September 7, 2021).

4. INTERIOR/BIA-11, Indian Business Development Program (Grants), 48 FR 41104 (September 13, 1983); modification published 86 FR 50156 (September 7, 2021).

5. INTERIOR/BIA-12, Indian Trust Land Mortgages, 48 FR 41105 (September 13, 1983); modification published 86 FR 50156 (September 7, 2021).

6. INTERIOR/BIA-13, Loan Management and Accounting System, 73 FR 40595 (July 15, 2008).

7. INTERIOR/BIA-17, Payroll, 48 FR 41108 (September 13, 1983).

8. INTERIOR/BIA-19, Indian Association Stock Purchase Records, 48 FR 41109 (September 13, 1983).

9. INTERIOR/BIA-22, Native American Student Information System (NASIS), 73 FR 40605 (July 15, 2008); modification published 86 FR 50156 (September 7, 2021).

10. INTERIOR/BIA-23, Employment Assistance Case Files, 55 FR 34087 (August 21, 1990).

11. INTERIOR/BIA-26, Electrical Utility Management System, 79 FR 24002 (April 29, 2014); modification published 86 FR 50156 (September 7, 2021).

12. INTERIOR/BIA-34, National Irrigation Information Management System (NIIMS), 78 FR 7804 (February 4, 2013); modification published 86 FR 50156 (September 7, 2021).

13. INTERIOR/BLM-3, Mineral Lease Management, 47 FR 55317 (December 8, 1982); modification published 73 FR 17376 (April 1, 2008) and 86 FR 50156 (September 7, 2021).

14. INTERIOR/BLM-4, Coal Lease Data System, 47 FR 55317 (December 8, 1982); modification published 73 FR 17376 (April 1, 2008) and 86 FR 50156 (September 7, 2021).

15. INTERIOR/BLM-16, Forest Resources Information System (FRIS), 89 FR 39637 (May 9, 2024).

16. INTERIOR/WBR-39, Water Rights Acquisition, 64 FR 29876 (June 3, 1999); modification published 73 FR 20949 (April 17, 2008) and 86 FR 50156 (September 7, 2021).

17. INTERIOR/WBR-40, Water Sales and Delivery Contracts, 64 FR 29876 (June 3, 1999); modification published 73 FR 20949 (April 17, 2008) and 86 FR 50156 (September 7, 2021).

18. INTERIOR/OS-02, Individual Indian Money (IIM) Trust Funds, 84 FR 44321 (August 23, 2019).

19. INTERIOR/OS-13, Aircraft Administrative Management and Fiscal Records, 74 FR 49002 (September 25, 2009); modification published 86 FR 50156 (September 7, 2021).

20. INTERIOR/OS-26, Youth Conservation Corps (YCC), Enrollee Payroll Recorder File, 56 FR 41700 (August 22, 1991); modification published 86 FR 50156 (September 7, 2021).

21. INTERIOR/OS-30, Minerals Revenue Management Support System (MRMSS), 81 FR 16207 (March 25, 2016); modification published 86 FR 50156 (September 7, 2021).

22. INTERIOR/DOI-01, Interior Child Care Subsidy Program, 66 FR 10309 (February 14, 2001); modification published 73 FR 8342 (February 13, 2008) and 86 FR 50156 (September 7, 2021).

23. INTERIOR/DOI-02, Interior Relocation Assistance Program Records, 3 FR 55125 (September 24, 2008); modification published 86 FR 50156 (September 7, 2021).

24. INTERIOR/DOI-04, Employee Assistance Program Records, 64 FR 20011 (April 23, 1999); modification published 73 FR 8342 (February 13, 2008) and 86 FR 50156 (September 7, 2021).

25. INTERIOR/DOI-85, Payroll, Attendance, Retirement, and Leave Records, 83 FR 34156 (July 19, 2018).

26. INTERIOR/DOI-86, Accounts Receivable: FBMS, 73 FR 43772 (July 28, 2008); modification published 86 FR 50156 (September 7, 2021).

27. INTERIOR/DOI-87, Acquisition of Goods and Services: FBMS, 73 FR 43766 (July 28, 2008); modification published 86 FR 50156 (September 7, 2021).

28. INTERIOR/DOI-89, Grants and Cooperative Agreements: FBMS, 73 FR 43755 (July 28, 2008); modification published 86 FR 50156 (September 7, 2021).

29. INTERIOR/DOI-90, Federal Financial System, 64 FR 46930 (August 27, 1999); modification published 73 FR 8342 (February 13, 2008).

30. INTERIOR/DOI-91, Oracle Federal Financials (OFF), 89 FR 81102 (October 7, 2024).

31. INTERIOR/NPS-2, Land Acquisition, Relocation, and Realty Management Records, 89 FR 16783 (March 8, 2024).

32. INTERIOR/NPS-14, Concessioner Financial Statement and Audit Report Files, 48 FR 51696 (November 10, 1983); modification published 73 FR 63992 (October 28, 2008) and 86 FR 50156 (September 7, 2021).

33. INTERIOR/NPS-17, Employee Financial Irregularities, 48 FR 51702 (November 10, 1983); modification published 73 FR 63992 (October 28, 2008).

34. INTERIOR/NPS-18, Collection, Certifying and Disbursing Officers, and Imprest Fund Cashiers, 48 FR 51696 (November 10, 1983); modification published 73 FR 63992 (October 28, 2008).

35. INTERIOR/OSM-8, Employment and Financial Interests Statements—States and Federal Agencies, 64 FR 17412 (April 9, 1999); modification published 73 FR 45244 (August 4, 2008) and 86 FR 50156 (September 7, 2021).

Routine Uses of Records Maintained in the System, Including Categories of Users and Purposes of Such Uses

To the U.S. Department of the Treasury when disclosure of the information is relevant to review payment and award eligibility through the Do Not Pay Working System for the purposes of identifying, preventing, or recouping improper payments to an applicant for, or recipient of, Federal funds, including funds disbursed by a state (meaning a state of the United States, the District of Columbia, a territory or possession of the United States, or a federally recognized Indian tribe) in a state-administered, federally funded program.

Walter Clay,
Departmental Privacy Officer (Acting), U.S. Department of the Interior.

[FR Doc. 2026-04216 Filed 3-3-26; 8:45 am]

BILLING CODE 4334-63-P